DEPARTMENT OF THE TREASURY

Submission for OMB Review; Comment Request

October 22, 2003.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11100, 1750 Pennsylvania Avenue, NW., Washington, DC 20220.

DATES: Written comments should be received on or before December 1, 2003, to be assured of consideration.

Alcohol and Tobacco Tax and Trade Bureau (TTB)

OMB Number: 1513-0107.

Form Number: TTB F 5220.6.

Type of Review: Extension.

Title: Monthly Report—Tobacco Products Importer.

Description: Reports of the lawful importation and disposition of tobacco products dealers are necessary to determine whether those issued the permits required by 26 U.S.C. 5713 should be allowed to continue their operations or renew their permits.

Respondents: Business or other for-profit.

Estimated Number of Respondents: 1,500.

Estimated Burden Hours Per Respondent: 48 minutes.

Frequency of Response: Monthly.

Estimated Total Reporting Burden: 14,400 hours.

Clearance Officer: William H. Foster, Alcohol and Tobacco Tax and Trade Bureau,Room 200 East,1310 G Street, NW.,Washington, DC 20005, (202) 927-8210.

OMB Reviewer: Joseph F. Lackey, Jr., Office of Management and Budget, Room 10235, New Executive Office Building,Washington, DC 20503, (202) 396-7316.

Mary A. Able,
Treasury PRA Clearance Officer.

[FR Doc. 03-27350 Filed 10-29-03; 8:45 am]

BILLING CODE 4810-31-P